DEPARTMENT OF COMMERCE

International Trade Administration

[A-570-847]

Persulfates From the People's Republic of China: Final Results of Antidumping Duty Administrative Review and Partial Rescission of Administrative Review

AGENCY: Import Administration, International Trade Administration, Department of Commerce.

ACTION: Notice of final results of antidumping duty administrative review.

SUMMARY: On April 10, 2000, the Department of Commerce published the preliminary results of its second administrative review of the antidumping duty order on persulfates from the People's Republic of China. The merchandise covered by this order are persulfates, including ammonium, potassium, and sodium persulfates. The period of review is July 1, 1998, through June 30, 1999.

We have determined that sales of subject merchandise by Shanghai Ai Jian Import & Export Corporation have been made below normal value during the period of review. This review has now been rescinded with respect to Sinochem Jiangsu Wuxi Import & Export Trade Corporation.

EFFECTIVE DATE: July 31, 2000.

FOR FURTHER INFORMATION CONTACT: James Nunno or Shawn Thompson, AD/CVD Enforcement Group I, Office II, Import Administration, International Trade Administration, U.S. Department of Commerce, 14th Street and Constitution Avenue, NW., Washington, DC 20230; telephone: (202) 482-0783 or (202) 482-1776, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (1998).

Background

On August 6, 1999, the Department published the preliminary results of administrative review of the antidumping duty order on persulfates from the People's Republic of China (PRC). See Persulfates from the People's Republic of China: Preliminary Results of Antidumping Duty Administrative Review, and Partial Rescission of Administrative Review, 65 FR 18963 (April 10, 2000) (Preliminary Results). We gave interested parties an opportunity to comment on our preliminary results but received no comments. We are rescinding this review with respect to Sinochem Jiangsu Wuxi Import & Export Trade Corporation (Wuxi) because Wuxi reported no shipments and entry data provided by the Customs Service confirms that there were no period of review (POR) entries of persulfates sold by Wuxi. The Department has conducted this administrative review in accordance with section 751 of the Act.

Scope of Review

The products covered by this review are persulfates, including ammonium, potassium, and sodium persulfates. The chemical formula for these persulfates are, respectively, (NH4)2S2O8, K2S2O8, and Na2S2O8. Ammonium and potassium persulfates are currently classified under subheading 2833.40.60 of the Harmonized Tariff Schedule of the United States (HTSUS). Sodium persulfate is classified under HTSUS subheading 2833.40.20. Although the HTSUS subheadings are provided for convenience and customs purposes, our written description of the scope of this review is dispositive.

Separate Rates

Shanghai Ai Jian Import & Export Corporation (Ai Jian) has requested a separate, company-specific antidumping duty rate. In our Preliminary Results, we found that Ai Jian had met the criteria for the application of a separate antidumping duty rate. See 65 FR at 18964. We have not received any other information since the preliminary results which would warrant reconsideration of our separate rates determination with respect to this company. We therefore determine that Ai Jian in this administrative review should be assigned an individual dumping margin.

With respect to Guangdong Petroleum Chemical Import & Export Trade Corporation (Guangdong Petroleum), which did not respond to the Department's questionnaire, we determine that this company does not merit a separate rate. The Department assigns a single rate to companies in a non-market economy, unless an exporter demonstrates an absence of government control. We determine that Guangdong Petroleum is subject to the country-wide rate for this case because it failed to demonstrate an absence of government control.

Use of Facts Available

As explained in the preliminary results, the use of facts available is warranted in this case because Guangdong Petroleum, which is part of the PRC entity (see “Separate Rates” section above), has failed to respond to the original questionnaire and has refused to participate in this administrative review. Therefore, in accordance with sections 776(a)(2)(A) and (C) of the Act, we find that the use of total facts available is appropriate for the PRC-wide rate. Furthermore, in the preliminary results we determined that Guangdong Petroleum did not cooperate to the best of its ability with our requests for necessary information. Therefore, in accordance with section 776(b) of the Act, we applied adverse inferences when selecting among the facts available. As adverse facts available in this proceeding, in accordance with the Department's practice, we preliminarily assigned Guangdong Petroleum and all other exporters subject to the PRC-wide rate the petition rate of 119.02 percent, which is the PRC-wide rate established in the less than fair value (LTFV) investigation, and the highest dumping margin determined in any segment of this proceeding. As explained in the preliminary results, we determined that this margin was corroborated in accordance with section 776(c) of the Act in the LTFV investigation. See Preliminary Results, 65 FR at 18964-5. We have determined that no evidence on the record warrants revisiting this issue in these final results, and no interested party submitted comments on our use of adverse facts available. Accordingly, we continue to use the petition rate from the LTFV investigation of 119.02 percent.

Changes Since the Preliminary Results

Based on determinations in recent PRC cases, we have made certain changes in the margin calculation for Ai Jian. These changes are as follows:

Labor: We valued labor based on the regression-based wage rate for 1998 in accordance with 19 CFR 351.408(c)(3). For purposes of the preliminary results we used the 1997 data because more recent data was not yet available.

Electricity: We derived a surrogate value for electricity based on electricity price data published by the Center for Monitoring Indian Economy and the Conference of Indian Industries, on an electricity-specific price index published by the Reserve Bank of India. These data were recently used in the antidumping duty administrative review of manganese metal from the PRC. See Notice of Final Results of Antidumping Duty Administrative Review of Manganese Metal from the People's Republic of China, 65 FR 30067, 30067-8 (May 10, 2000); Final Results Factors Valuation Memorandum from the Team to the File, July 25, 2000.

Final Results of the Review

We determine that the following percentage weighted-average margins exist for the period July 1, 1998 through June 30, 1999:

Manufacturer/exporter | Margin (percent)
Shanghai Ai Jian Import & Export Corporation | 2.62
PRC-wide Rate | 119.02

The Department shall determine, and Customs shall assess, antidumping duties on all appropriate entries. In accordance with 19 CFR 351.212(b), we have calculated exporter/importer-specific assessment rates. With respect to export price sales, we aggregated the dumping margins for the reviewed sales and divided this amount by the total quantity of those sales for each importer. We will direct Customs to assess the resulting unit margins against the entered Customs quantities for the subject merchandise on each of that importer's entries under the relevant order during the review period.

Cash Deposit Requirements

The following deposit requirements will be effective upon publication of this notice of final results of this antidumping duty administrative review for all shipments of persulfates from the PRC entered, or withdrawn from warehouse, for consumption on or after the date of publication, as provided by section 751(a)(1) of the Act: (1) The cash deposit rate for Ai Jian will be the rate shown above; (2) for previously reviewed or investigated companies not listed above that have separate rates, the cash deposit rate will continue to be the company-specific rate published for the most recent period; (3) the cash deposit rate for all other PRC exporters, including Guangdong Petroleum, will be 119.02 percent, the PRC-wide rate established in the LTFV investigation; and (4) the cash deposit rate for non-PRC exporters of subject merchandise from the PRC will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections section 751(a)(1) and 771(i) of the Act.

Dated: July 25, 2000.
Troy H. Cribb,
Acting Assistant Secretary for Import Adminstration.

[FR Doc. 00-19284 Filed 7-28-00; 8:45 am]

BILLING CODE 3510-DS-P